DEPARTMENT OF HEALTH AND HUMAN SERVICES

Centers for Disease Control and Prevention

Notice of Award of a Sole Source Cooperative Agreement To Fund Namibia Ministry of Health and Social Services (MOHSS), Rwanda Biomedical Center, South African Medical Research Council, South African National AIDS Council Trust (SANAC), Tanzania Commission for AIDS (TACAIDS), President's Office—Regional Administration and Local Government (PO-RALG), and Vietnam Administration for HIV/AIDS Control (VAAC)

AGENCY: Centers for Disease Control and Prevention (CDC), Department of Health and Human Services (HHS).

ACTION: Notice.

SUMMARY: The Centers for Disease Control and Prevention (CDC), located within the Department of Health and Human Services (HHS), announces the award(s) of approximately $8,000,000 for Year 1 funding to MOHSS, $4,000,000 for Year 1 funding to Rwanda Biomedical Center, $3,000,000 for Year 1 funding to South African Medical Research Council, $3,000,000 for Year 1 funding to SANAC, $500,000 for Year 1 funding to TACAIDS, $500,000 for Year 1 funding to PO-RALG, and $6,000,000 for Year 1 funding to VAAC. The(se) award(s) will strengthen comprehensive and integrated service delivery for prevention, implement strategies and activities that strengthen local entities, support the coordination, management, and monitoring of multi-sectoral implementation, foster the government's capacity to provide comprehensive management of the HIV program, and implement a sustainable and quality-assured HIV diagnostic, testing, and health information management program in Namibia, Rwanda, South Africa, Tanzania, and Vietnam. Funding amounts for years 2-5 will be set at continuation.

DATES: The period for these award will be September 30, 2024, through September 29, 2029.

FOR FURTHER INFORMATION CONTACT: Benjamin Monroe, Center for Global Health, Centers for Disease Control and Prevention, CDC Namibia, Private Bag 12029, Ausspannplatz, Windhoek, Namibia, Telephone: 404.639.1523, Email: ihd2@cdc.gov.

Antyme Kayisabe, Center for Global Health, Centers for Disease Control and Prevention, US Embassy Kigali; 30KG 7 Avenue (Kacyiru); P.O. Box 28 Kigali, Rwanda, Telephone: 788.382.114, Email: hqq9@cdc.gov.

Rehmeth Fakroodeen, Center for Global Health, Centers for Disease Control and Prevention, 100 Totius Street, Groenkloof, Pretoria,0181, Telephone: 278.252.43786, Email: wzv0@cdc.gov.

Rachael Joseph, Center for Global Health, Centers for Disease Control and Prevention, 100 Totius Street, Groenkloof, Pretoria,0181, Telephone: 27 822544430, Email: vie5@cdc.gov.

Angela Schaad, Center for Global Health, Centers for Disease Control and Prevention, 2448 Luthuli Road Dar Es Salaam Tanzania, Telephone: 404.718.3639, Email: kin7@cdc.gov.

Amy Bailey, Center for Global Health, Centers for Disease Control and Prevention, 5th/Floor Tung Shing Building, No 2, Ngo Quyen Street, Hoan Kiem District Hanoi, Vietnam, Telephone: 011842439352692, Email: fue8@cdc.gov.

SUPPLEMENTARY INFORMATION: The(se) sole source award(s) will maintain HIV and achieve TB epidemic control and strengthen public health systems and security, implement evidence-based decision-making, technical leadership, and coordination of quality HIV prevention and care and treatment (C&T) services, strengthen systems and processes at multiple health system levels, support coordination and implementation of United States Government (USG)-funded public health activities, and ensure the quality of HIV diagnostics and testing, track the quality of services to persons living with HIV (PLHIV) on treatment, and monitor the cascade progression to HIV epidemic control in Namibia, Rwanda, South Africa, Tanzania, and Vietnam.

MOHSS is in a unique position to conduct this work, as it is the sole government entity charged with the operation of Namibia's public healthcare system. It is the only body authorized by law to develop and implement health policies in the public health sector, and to enforce national health laws in the public and private healthcare sectors. As the government ministry with exclusive authority over the healthcare system, it is the only organization in Namibia eligible to receive direct government-to-government support for the HIV/AIDS activities proposed by CDC.

Rwanda Biomedical Center is in a unique position to conduct this work, as it develops policies and regulations for medical laboratories, conducts specialized testing, monitors the performance and operation of other laboratories in Rwanda, and establishes relations and collaborations with other national and international agencies carrying out similar responsibilities. No other agency in the public or private sector performs this responsibility.

South African Medical Research Council is in a unique position to conduct this work, as it is a government body responsible for biomedical research of national importance and is the only agency with this direct governmental mandate in South Africa.

SANAC is in a unique position to conduct this work, as it is mandated to coordinate a truly multi-sectoral response to the epidemics at a national and sub-national level. Therefore, SANAC is authorized to collaborate with government departments, the private health sector, other development partners, and non-governmental organizations (NGOS) to develop strategies to reach epidemic control.

TACAIDS is in a unique position to conduct this work, as it has sole legal authority to provide strategic multi-sectorial leadership and to coordinate and strengthen efforts of all stakeholders involved in the national HIV/AIDS response. TACAIDS has 16 functions to aid in achieving their mandate.

PO-RALG is in a unique position to conduct this work, as it is legally the only government agency that interprets national policies, strategies, and guidelines related to health and social welfare sector development, financing, and human resources; provides supportive supervision and mentorship to RAs and LGAs; and ensures implementation of policies and regulations by RAs and LGAs. PO-RALG has oversight and management of all dispensaries, health facilities, and regional hospitals, as well as all health care workers.

VAAC is in a unique position to conduct this work, as it uniquely qualified for this funding opportunity because of their political mandate, clearly acknowledged leadership by all partners, and significant experience to continue a strong and vital coordinating role for HIV programs.

Summary of the award:

Recipient: Namibia Ministry of Health and Social Services (MOHSS), Rwanda Biomedical Center, South African Medical Research Council, South African National AIDS Council Trust (SANAC), Tanzania Commission for AIDS (TACAIDS), President's Office—Regional Administration and Local Government (PO-RALG), and Vietnam Administration for HIV/AIDS Control (VAAC).

Purpose of the Award: The purpose of these awards is to strengthen comprehensive and integrated service delivery for prevention and implement strategies and activities that strengthen local entities, support the coordination, management, and monitoring of multi-sectoral implementation, foster the government's capacity to provide comprehensive management of the HIV program, and implement a sustainable and quality-assured HIV diagnostic, testing, and health information management program in Namibia, Rwanda, South Africa, Tanzania, and Vietnam.

Amount of Award: For MOHSS, the approximate year 1 funding amount will be $8,000,000 in Federal Fiscal Year (FYY) 2024 funds, subject to the availability of funds. Funding amounts for years 2-5 will be set at continuation.

Amount of Award: For Rwanda Biomedical Center, the approximate year 1 funding amount will be $4,000,000 in Federal Fiscal Year (FYY) 2024 funds, subject to the availability of funds. Funding amounts for years 2-5 will be set at continuation.

Amount of Award: For South African Medical Research Council, the approximate year 1 funding amount will be $(3,000,000 in Federal Fiscal Year (FYY) 2024 funds, subject to the availability of funds. Funding amounts for years 2-5 will be set at continuation.

Amount of Award: For SANAC, the approximate year 1 funding amount will be $3,000,000 in Federal Fiscal Year (FYY) 2024 funds, subject to the availability of funds. Funding amounts for years 2-5 will be set at continuation.

Amount of Award: For TACAIDS, the approximate year 1 funding amount will be $500,000 in Federal Fiscal Year (FYY) 2024 funds, subject to the availability of funds. Funding amounts for years 2-5 will be set at continuation.

Amount of Award: For PO-RALG, the approximate year 1 funding amount will be $500,000 in Federal Fiscal Year (FYY) 2024 funds, subject to the availability of funds.

Amount of Award: For VAAC, the approximate year 1 funding amount will be $6,000,000 in Federal Fiscal Year (FYY) 2024 funds, subject to the availability of funds. Funding amounts for years 2-5 will be set at continuation.

Authority: These programs are authorized under Public Law 108-25 (the United States Leadership Against HIV AIDS, Tuberculosis and Malaria Act of 2003) [22 U.S.C. 7601, et seq.] and Public Law 110-293 (the Tom Lantos and Henry J. Hyde United States Global Leadership Against HIV/AIDS, Tuberculosis, and Malaria Reauthorization Act of 2008), and Public Law 113-56 (PEPFAR Stewardship and Oversight Act of 2013).

Period of Performance: The period for these awards will be September 30, 2024, through September 29, 2029.

Dated: January 24, 2024.
Jamie Legier,
Acting Director, Office of Grants Services, Acting Chief Grants Management Officer, Centers for Disease Control and Prevention.

[FR Doc. 2024-02505 Filed 2-6-24; 8:45 am]

BILLING CODE 4163-18-P